DEPARTMENT OF ENERGY

Federal Energy Regulatory Commission

Combined Notice of Filings #1

Take notice that the Commission received the following electric corporate filings:

Docket Numbers: EC19-6-000.

Applicants: NRG REMA LLC, Keystone Power Pass-Through Holders LLC, Conemaugh Power Pass-Through Holders LLC.

Description: Joint Application for Authorization Under Section 203 of the Federal Power Act, et al. of NRG REMA LLC, et al.

Filed Date: 10/9/18.

Accession Number: 20181009-5298.

Comments Due: 5 p.m. ET 10/30/18.

Docket Numbers: EC19-7-000.

Applicants: MidAmerican Wind Tax Equity Holdings, LLC, Blue Cloud Wind Energy, LLC, Blue Cloud TE Partnership LLC, Sponsor Blue Cloud HoldCo LLC.

Description: Joint Application for Authorization Under Section 203 of the Federal Power Act, et al. of Blue Cloud Wind Energy, LLC, et al.

Filed Date: 10/9/18.

Accession Number: 20181009-5324.

Comments Due: 5 p.m. ET 10/30/18.

Take notice that the Commission received the following exempt wholesale generator filings:

Docket Numbers: EG19-6-000.

Applicants: Conemaugh Power Pass-Through Holders LLC.

Description: Notice of Self-Certification of Conemaugh Power Pass-Through Holders LLC.

Filed Date: 10/10/18.

Accession Number: 20181010-5070.

Comments Due: 5 p.m. ET 10/31/18.

Docket Numbers: EG19-7-000.

Applicants: Keystone Power Pass-Through Holders LLC.

Description: Notice of Self-Certification of Keystone Power Pass-Through Holders LLC.

Filed Date: 10/10/18.

Accession Number: 20181010-5071.

Comments Due: 5 p.m. ET 10/31/18.

Docket Numbers: EG19-8-000.

Applicants: GRP Madison, LLC.

Description: Notice of Self-Certification of Exempt Wholesale Generator Status of GRP Madison, LLC.

Filed Date: 10/10/18.

Accession Number: 20181010-5084.

Comments Due: 5 p.m. ET 10/31/18.

Docket Numbers: EG19-9-000.

Applicants: GRP Franklin, LLC.

Description: Notice of Self-Certification of Exempt Wholesale Generator Status of GRP Franklin, LLC.

Filed Date: 10/10/18.

Accession Number: 20181010-5085.

Comments Due: 5 p.m. ET 10/31/18.

Take notice that the Commission received the following electric rate filings:

Docket Numbers: ER10-2527-007; ER10-1821 018; ER10-2400 010; ER10-2528 003; ER10-2529 003; ER10-2530 004; ER10-2531 008; ER10-2532 013; ER10-2533 007; ER10-2534 004; ER10-2535 008; ER11-4475 011.

Applicants: Allegheny Ridge Wind Farm, LLC, Crescent Ridge LLC, GSG, LLC, Mendota Hills, LLC, Cedar Creek Wind Energy, LLC, Goshen Phase II LLC, Rockland Wind Farm LLC, Aragonne Wind LLC, Buena Vista Energy, LLC, Kumeyaay Wind LLC, Blue Canyon Windpower LLC, Caprock Wind LLC.

Description: Notice of Non-Material Change in Status of Allegheny Ridge Wind Farm, LLC, et al.

Filed Date: 10/9/18.

Accession Number: 20181009-5326.

Comments Due: 5 p.m. ET 10/30/18.

Docket Numbers: ER17-1442-002.

Applicants: Axiall, LLC.

Description: Supplement to June 28, 2018 Updated Market Power Analysis for Central Region of Axiall, LLC.

Filed Date: 10/9/18.

Accession Number: 20181009-5318.

Comments Due: 5 p.m. ET 10/30/18.

Docket Numbers: ER19-69-000.

Applicants: Rockland Wind Farm LLC.

Description: § 205(d) Rate Filing: Notice of Change in Category Seller Status to be effective 10/10/2018.

Filed Date: 10/9/18.

Accession Number: 20181009-5235.

Comments Due: 5 p.m. ET 10/30/18.

Docket Numbers: ER19-70-000.

Applicants: Keystone Power Pass-Through Holders LLC.

Description: Baseline eTariff Filing: Market-Based Rate Tariff Application to be effective 10/9/2018.

Filed Date: 10/9/18.

Accession Number: 20181009-5236.

Comments Due: 5 p.m. ET 10/30/18.

Docket Numbers: ER19-71-000.

Applicants: Midcontinent Independent System Operator, Inc.

Description: § 205(d) Rate Filing: 2018-10-09_SA 3170 Crossett Solar—EAI GIA (J680) to be effective 9/24/2018.

Filed Date: 10/9/18.

Accession Number: 20181009-5243.

Comments Due: 5 p.m. ET 10/30/18.

Docket Numbers: ER19-72-000.

Applicants: Bruce Power Inc.

Description: § 205(d) Rate Filing: Notice of Non-Material Change in Status and Change in Category Seller Status to be effective 10/10/2018.

Filed Date: 10/9/18.

Accession Number: 20181009-5255.

Comments Due: 5 p.m. ET 10/30/18.

Docket Numbers: ER19-73-000.

Applicants: Conemaugh Power Pass-Through Holders LLC.

Description: Initial rate filing: Reactive Rate Filing to be effective 12/31/9998.

Filed Date: 10/9/18.

Accession Number: 20181009-5260.

Comments Due: 5 p.m. ET 10/30/18.

Docket Numbers: ER19-74-000.

Applicants: Keystone Power Pass-Through Holders LLC.

Description: Initial rate filing: Reactive Rate Filing to be effective 12/31/9998.

Filed Date: 10/9/18.

Accession Number: 20181009-5266.

Comments Due: 5 p.m. ET 10/30/18.

Docket Numbers: ER19-75-000.

Applicants: Portsmouth Genco, LLC.

Description: § 205(d) Rate Filing: Request for Category 1 Status to be effective 10/10/2018.

Filed Date: 10/9/18.

Accession Number: 20181009-5284.

Comments Due: 5 p.m. ET 10/30/18.

Docket Numbers: ER19-76-000.

Applicants: Keystone Power LLC.

Description: § 205(d) Rate Filing: Keystone MBR Tariff Revisions to be effective 10/10/2018.

Filed Date: 10/10/18.

Accession Number: 20181010-5000.

Comments Due: 5 p.m. ET 10/31/18.

Docket Numbers: ER19-77-000.

Applicants: Conemaugh Power LLC.

Description: § 205(d) Rate Filing: Conemaugh MBR Tariff Revisions to be effective 10/10/2018.

Filed Date: 10/10/18.

Accession Number: 20181010-5002.

Comments Due: 5 p.m. ET 10/31/18.

Docket Numbers: ER19-78-000.

Applicants: Panther Creek Power Operating, LLC.

Description: § 205(d) Rate Filing: Panther Creek MBR Tariff Revisions to be effective 10/10/2018.

Filed Date: 10/10/18.

Accession Number: 20181010-5004.

Comments Due: 5 p.m. ET 10/31/18.

Docket Numbers: ER19-79-000.

Applicants: PJM Interconnection, L.L.C.

Description: § 205(d) Rate Filing: Original ISA and CSA, SA Nos. 5212 and 5213; Queue No. AB2-077/AB2-078/AB2-079 to be effective 9/10/2018.

Filed Date: 10/10/18.

Accession Number: 20181010-5044.

Comments Due: 5 p.m. ET 10/31/18.

Docket Numbers: ER19-80-000.

Applicants: PJM Interconnection, L.L.C.

Description: § 205(d) Rate Filing: Revisions to OA, Schedule 6, sec. 1.5 re: Market Efficiency Process Enhancements to be effective 12/10/2018.

Filed Date: 10/10/18.

Accession Number: 20181010-5045.

Comments Due: 5 p.m. ET 10/31/18.

Docket Numbers: ER19-81-000.

Applicants: Athens Energy, LLC.

Description: Report Filing: Refund Report (ER17-1954) to be effective N/A.

Filed Date: 10/10/18.

Accession Number: 20181010-5104.

Comments Due: 5 p.m. ET 10/31/18.

Docket Numbers: ER19-81-000.

Applicants: Athens Energy, LLC.

Description: Baseline eTariff Filing: Application for Market-Based Rates to be effective 10/10/2018.

Filed Date: 10/10/18.

Accession Number: 20181010-5100.

Comments Due: 5 p.m. ET 10/31/18.

Docket Numbers: ER19-82-000.

Applicants: AEP Texas Inc.

Description: § 205(d) Rate Filing: AEPTX-La Chalupa Interconnection Agreement to be effective 9/28/2018.

Filed Date: 10/10/18.

Accession Number: 20181010-5103.

Comments Due: 5 p.m. ET 10/31/18.

Docket Numbers: ER19-83-000.

Applicants: AEP Texas Inc.

Description: § 205(d) Rate Filing: AEPTX-OCI Alamo 6 System Upgrade Agreement Cancellation to be effective 9/18/2018.

Filed Date: 10/10/18.

Accession Number: 20181010-5107.

Comments Due: 5 p.m. ET 10/31/18.

Docket Numbers: ER19-84-000.

Applicants: ISO New England Inc., New England Power Pool Participants Committee.

Description: § 205(d) Rate Filing: Enhanced Storage Participation Revisions to be effective 4/1/2019.

Filed Date: 10/10/18.

Accession Number: 20181010-5114.

Comments Due: 5 p.m. ET 10/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2018.
Nathaniel J. Davis, Sr.,
Deputy Secretary.

[FR Doc. 2018-22709 Filed 10-17-18; 8:45 am]

BILLING CODE 6717-01-P